DEPARTMENT OF THE INTERIOR

Fish and Wildlife Service

Proposed Information Collection; Alaska Guide Service Evaluation

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. We may not conduct or sponsor and a person is not required to respond to a collection of information unless it displays a currently valid OMB control number.

DATES: You must submit comments on or before March 24, 2008.

ADDRESSES: Send your comments on the IC to Hope Grey, Information Collection Clearance Officer, Fish and Wildlife Service, MS 222-ARLSQ, 4401 North Fairfax Drive, Arlington, VA 22203 (mail); hope_grey@fws.gov (e-mail); or (703) 358-2269 (fax).

FOR FURTHER INFORMATION CONTACT: To request additional information about this IC, contact Hope Grey by mail, fax, or e-mail (see ADDRESSES) or by telephone at (703) 358-2482.

SUPPLEMENTARY INFORMATION:

I. Abstract

The National Wildlife Refuge Administration Act of 1966, as amended (16 U.S.C. 668dd-ee), authorizes us to permit uses, including commercial visitor services, on national wildlife refuges only when we find the activity to be compatible with the purposes for which the refuge was established. With the objective of making available a variety of quality visitor services for wildlife dependent recreation on National Wildlife Refuge System lands, we issue permits for commercial guide services, including big game hunting, sport fishing, wildlife viewing, river trips, and other guided activities. We plan to use FWS Form 3-2349 (Alaska Guide Service Evaluation) as a method to:

(1) Monitor the quality of services provided by commercial guides.

(2) Gauge client satisfaction with the services.

(3) Assess the impacts of the activity on refuge resources.

The client is the best source of information on the quality of commercial guiding services. The information that we plan to collect, in combination with required guide activity reports and contacts with guides and clients in the field, provides a comprehensive method for monitoring permitted commercial guide activities. A regular program of client evaluation will help refuge managers detect potential problems with guide services so that corrective actions can be taken promptly. In addition, we will use this information during the competitive selection process for big game and sport fishing guides to evaluate an applicant's ability to provide a quality guiding service.

We will provide the evaluation form to clients by one of several methods:

(1) The refuge may mail the form to the clients of big game guides using contact information provided by the guides as required under their permits.

(2) On websites of refuges where guide services are permitted.

(3) Upon request.

II. Data

OMB Control Number: None. This is a new collection.

Title: Alaska Guide Service Evaluation.

Service Form Number(s): 3-2349.

Type of Request: New collection.

Affected Public: Clients of permitted commercial guide service providers.

Respondent's Obligation: Voluntary.

Frequency of Collection: One time following use of commercial guiding services.

Estimated Annual Number of Respondents: 1,000

Estimated Total Annual Responses: 1,000

Estimated Time Per Response: 15 min.

Estimated Total Annual Burden Hours: 250.

III. Request for Comments

We invite comments concerning this IC on:

(1) whether or not the collection of information is necessary, including whether or not the information will have practical utility;

(2) the accuracy of our estimate of the burden for this collection of information;

(3) ways to enhance the quality, utility, and clarity of the information to be collected; and

(4) ways to minimize the burden of the collection of information on respondents.

Comments that you submit in response to this notice are a matter of public record. We will include and/or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: December 6, 2007.
Hope Grey,
Information Collection Clearance Officer, Fish and Wildlife Service.

FR Doc. E8-989 Filed 1-18-08;am

BILLING CODE 4310-55-S